DEPARTMENT OF ENERGY

Federal Energy Regulatory Commission

[Project No. 2524-018—Oklahoma Salina Pumped Storage Project]

Grand River Dam Authority; Notice of Revised Restricted Service List

Rule 2010 of the Federal Energy Regulatory Commission's (Commission) Rules of Practice and Procedure, 18 CFR section 385.2010, provides that, to eliminate unnecessary expense or improve administrative efficiency, the Secretary may establish a restricted service list for a particular phase or issue in a proceeding. The restricted service list should contain the names of persons on the service list who, in the judgment of the decisional authority establishing the list, are active participants with respect to the phase or issue in the proceeding for which the list is established.

The Commission staff is consulting with the Oklahoma Historical Society (Oklahoma SHPO) and the Advisory Council on Historic Preservation (Advisory Council) pursuant to the Advisory Council's regulations, 36 CFR Part 800, implementing section 106 of the National Historic Preservation Act, as amended, (16 U.S.C. section 470 f), to develop and execute a Programmatic Agreement for managing properties included in, or eligible for inclusion in, the National Register of Historic Places that could be affected by issuance of a new license for the Salina Pumped Storage Project No. 2524-018.

On March 28, 2011, Commission staff established a restricted service list for the Salina Pumped Storage Project. Since that time, changes have occurred and therefore, the restricted service list is revised as follows:

Replace “Dr. Andrea Hunter, THPO, and James Munkres, Osage Nation, 627 Grandview, Pawhuska, OK 74056” with “Dr. Barker Fariss, Senior Archaeologist, or Representative, Osage Nation, 627 Grandview, Pawhuska, OK 74056.”

Replace “George Strack, THPO, Miami Tribe of Oklahoma, P.O. Box 1326, Miami, OK 74355” with “George Strack, THPO, or Representative, Miami Tribe of Oklahoma, 202 S. Eight Tribes Trail, Miami, OK 74354.”

Remove “Dr. Timothy G. Baugh, Historical Archaeologist, Oklahoma Historical Society, 800 Nazih Zuhdi Drive, Oklahoma City, OK 73105-7917” because he retired.

Dated: May 22, 2014.
Kimberly D. Bose,
Secretary.

[FR Doc. 2014-12871 Filed 6-3-14; 8:45 am]

BILLING CODE 6717-01-P